Title 3—

The President

Proclamation 9024 of September 26, 2013

National Public Lands Day, 2013

By the President of the United States of America

A Proclamation

Atop soaring mountain peaks, alongside bubbling streams, in woodlands and grasslands that stretch over rolling hills, Americans find inspiration in our great outdoors. Just as our diverse and rugged landscapes reflect our national character, the way we care for these open spaces mirrors our commitment to future generations. On National Public Lands Day, we celebrate the lands we share and gather to conserve our natural heritage.

For two decades, Americans have observed this day by lending their time to the restoration of our country's historic places and natural treasures. Across our country, volunteers beautify parks, waterways, and wilderness areas. Through these small acts—from planting trees to carving out trails, removing litter, and curbing the growth of invasive species—volunteers carry forward a long tradition of conservation and public service. Their spirit is at the heart of the America's Great Outdoors Initiative, which is making the outdoors more accessible to all Americans. Since I established this initiative, we have expanded access to recreation, restored critical landscapes, and created urban parks and water trails. We are also working with partners to let young people serve as volunteers in our parks and help returning veterans find meaningful jobs protecting and enhancing America's great outdoors.

As we come together to honor and restore America's public lands, we recognize their role in shaping our history, enriching our lives, and bolstering our economy. Today, as we mark the 20th anniversary of National Public Lands Day, let us pledge to maintain these open spaces. And let us pass forward the opportunity to experience their majesty, connect with our natural heritage, and refresh our bodies and minds.

NOW, THEREFORE, I, BARACK OBAMA, President of the United States of America, by virtue of the authority vested in me by the Constitution and the laws of the United States, do hereby proclaim September 28, 2013, as National Public Lands Day. I encourage all Americans to participate in a day of public service for our lands.

IN WITNESS WHEREOF, I have hereunto set my hand this twenty-sixth day of September, in the year of our Lord two thousand thirteen, and of the Independence of the United States of America the two hundred and thirty-eighth.

[FR Doc. 2013-24045

Filed 9-30-13; 8:45 am]

Billing code 3295-F4